DEPARTMENT OF HEALTH AND HUMAN SERVICES

Meeting of the Presidential Advisory Council on HIV/AIDS

AGENCY: Department of Health and Human Services, Office of the Secretary, Office of the Assistant Secretary for Health.

ACTION: Notice.

SUMMARY: As stipulated by the Federal Advisory Committee Act, the U.S. Department of Health and Human Service (DHHS) is hereby giving notice that the Presidential Advisory Council on HIV/AIDS (PACHA) will hold a meeting. The meeting will be conducted as a telephone conference call. The meeting will be open to the public through a conference call phone number.

DATES: The meeting will be on August 2, 2011 from 2 p.m. to approximately 3 p.m. E.S.T.

ADDRESSES: No in-person meeting; conference call only.

Conference Call: Domestic: 888-455-2653. International: 1-210-839-8485.

Access code: 1508564.

FOR FURTHER INFORMATION CONTACT: Mr. Melvin Joppy, Committee Manager, Presidential Advisory Council on HIV/AIDS, Department of Health and Human Services, 200 Independence Avenue, SW., Room 443H, Washington, DC 20201; (202) 690-5560. More detailed information about PACHA can be obtained by accessing the Council's Web site at http://www.pacha.gov.

SUPPLEMENTARY INFORMATION: PACHA was established by Executive Order 12963, dated June 14, 1995 as amended by Executive Order 13009, dated June 14, 1996. The Council was established to provide advice, information, and recommendations to the Secretary regarding programs and policies intended to (a) Promote effective prevention of HIV disease, (b) advance research on HIV and AIDS, and (c) promote quality services to persons living with HIV disease and AIDS. PACHA was established to serve solely as an advisory body to the Secretary of Health and Human Services.

The purpose of this conference call meeting is for PACHA members to discuss their “game changing” recommendations letter to the Secretary of HHS and the President in order to curb the HIV epidemic. A copy of the letter will be on the PACHA Web site by close of business Thursday, July 28, 2011. The meeting will be open to the public through a conference call phone number provided above. There will be a limited amount of open lines for the public; early registration is highly recommended. Individuals who need special assistance using this service, such as captioning of the conference call or other reasonable accommodations, should submit a request at least five days prior to the meeting. Members of the public who participate using the conference call phone number will be in a listen only status.

Members of the public will have the opportunity to provide comments. Pre-registration is required for public comment. Individuals who wish to participate in the public comment session must send a copy of their public comments to Melvin Joppy, Committee Manager, at melvin.joppy@hhs.gov by close of business Friday, July 29, 2011. Registration for public comment will not be accepted by telephone. Public comment will be limited to the first eight individuals who pre-register. Public comment will be limited to two minutes per speaker. Individuals not providing public comment during the conference call meeting may submit written comments to Melvin Joppy, Committee Manager, at melvin.joppy@hhs.gov by close of business Friday, August 5, 2011.

Dated: July 11, 2011.
Christopher H. Bates,
Executive Director, Presidential Advisory Council on HIV/AIDS.

[FR Doc. 2011-17926 Filed 7-15-11; 8:45 am]

BILLING CODE 4150-43-P